DEPARTMENT OF COMMERCE

National Oceanic and Atmospheric Administration

U.S. Coral Reef Task Force Public Meeting and Public Comment

AGENCY: National Ocean Service, NOAA, Department of Commerce.

ACTION: Notice of public meeting, Notice of public comment.

SUMMARY: Notice is hereby given of a public meeting of the U.S. Coral Reef Task Force. The meeting will be held in Washington, DC. This meeting, the 23rd bi-annual meeting of the U.S. Coral Reef Task Force, provides a forum for coordinated planning and action among Federal agencies, State and territorial governments, and nongovernmental partners. Please register in advance by visiting the Web site listed below. This meeting has time allotted for public comment. All public comment must be submitted in written format. A written summary of the meeting will be posted on the Web site within two months of its occurrence.

DATES: The meeting will be held Tuesday, February 23 and Wednesday, February 24, 2010. Registration is requested for all events associated with the meetings. Advance public comments can be submitted to the e-mail, fax, or mailing address listed below from Friday, January 15—Friday, January 29.

Location: The meeting will be held at the Department of Commerce, 1401 Constitution Avenue NW., Washington, DC 20230 on February 23, 2010 and the Department of the Interior, 1849 C Street, NW., Washington, DC 20240 on February 24, 2010.

FOR FURTHER INFORMATION CONTACT: Steven Thur, NOAA U.S. Coral Reef Task Force Steering Committee Point of Contact, Coral Reef Conservation Program, 1305 East-West Highway, Silver Spring, Maryland, 20910 (Phone: 301-713-3155 ext. 147, Fax: 301-713-4389, e-mail: Steven.Thur@noaa.gov, Sarah Bobbe, U.S. Coral Reef Task Force Department of the Interior liaison, 1849 C Street NW., Room 5013 Washington, DC 20240 (Phone: 202-208-1378, e-mail: Sarah Bobbe@ios.doi.gov), or visit the U.S. Coral Reef Task Force Web site at http://www.coralreef.gov.)

SUPPLEMENTARY INFORMATION: Established by Presidential Executive Order 13089 in 1998, the U.S. Coral Reef Task Force mission is to lead, coordinate, and strengthen U.S. government actions to better preserve and protect coral reef ecosystems. Co-chaired by the Departments of Commerce and the Interior, Task Force members include leaders of 12 Federal agencies, seven U.S. States and territories, and three freely associated States. For more information about the meeting, registering, and submitting public comment go to http://www.coralreef.gov.

Dated: December 3, 2009.
Donna Wieting,
Director, Office of Ocean and Coastal Resource Management, National Ocean Service, National Oceanic and Atmospheric Administration.

[FR Doc. E9-30259 Filed 12-21-09; 8:45 am]

BILLING CODE 3510-08-M